DEPARTMENT OF THE INTERIOR

National Park Service

[NPS-WASO-NPS32651; PPWOVPADU0, PPMPRLE1Y.Y00000]

El Portal Administrative Site; Acceptance of Concurrent Jurisdiction

AGENCY: National Park Service, Interior.

ACTION: Notice.

SUMMARY: On behalf of the United States, the National Park Service has accepted concurrent criminal legislative jurisdiction from the State of California over federally-owned lands administered by the National Park Service comprising the El Portal Administrative Site adjacent to Yosemite National Park.

DATES: Concurrent criminal legislative jurisdiction with the El Portal Administrative Site became effective on March 22, 2021. The cession shall continue only so long as the lands are owned by the United States and used for the purposes for which jurisdiction is ceded or for 10 years, whichever period is less.

FOR FURTHER INFORMATION CONTACT: Kevin Killian, Chief Ranger, Yosemite National Park; telephone: 209.372.0211; email: Kevin_Killian@nps.gov.

SUPPLEMENTARY INFORMATION: On March 22, 2021, a Resolution of Cession of Concurrent Criminal Legislative Jurisdiction was recorded at the request of the State of California in the Mariposa County Recorder's Office at 8:50 a.m. The Resolution certifies that the Commissioners for the California State Lands Commission met on February 23, 2021, and made a cession of concurrent criminal legislative jurisdiction to the United States over lands within the El Portal Administrative Site in Mariposa County pursuant to the authority conferred upon them by California Government Code Section 126. The National Park Service, on behalf of the United States, has accepted the cession of jurisdiction pursuant to 40 U.S.C. 3112.

Jennifer Flynn,
Associate Director, Visitor and Resource Protection, National Park Service.

[FR Doc. 2021-27859 Filed 12-22-21; 8:45 am]

BILLING CODE 4312-52-P